DEPARTMENT OF TRANSPORTATION

Federal Aviation Administration

14 CFR Part 73

[Docket No. FAA-2003-15086; Airspace Docket No. 03-AAL-07]

RIN 2120-AA66

Revision of Restricted Area 2202C, and the Establishment of Restricted Area 2202D; Big Delta, AK

AGENCY: Federal Aviation Administration (FAA), DOT.

ACTION: Final rule.

SUMMARY: This action modifies Restricted Area 2202C (R-2202C), Big Delta, AK, by subdividing the altitude of R-2202C, to create R-2202D. The lateral dimensions of R-2202C will remain the same, however, the internal modification of the R-2202C and subsequent establishment of R-2202D will enable the military to activate only that portion of the airspace that is actually needed to contain their operations.

EFFECTIVE DATE: 0901 UTC, April 15, 2004.

FOR FURTHER INFORMATION CONTACT: Ken McElroy, Airspace and Rules Division, ATA-400, Office of Air Traffic Airspace Management, Federal Aviation Administration, 800 Independence Avenue SW., Washington, DC 20591; telephone (202) 267-8783.

SUPPLEMENTARY INFORMATION:

Background

As a result of a recent review of R-2202 airspace, the U.S. Army requested that the FAA take action to internally subdivide R-2202C into two sub-areas. Dividing the airspace into two sub-areas will allow for more efficient real-time use of the airspace, and allow more public access.

The Rule

This action amends title 14 Code of Federal Regulations (14 CFR) part 73 (part 73) by subdividing R-2202C, and establishing R-2202D, to enable more efficient use of airspace. Specifically this action changes the vertical limit of R-2203C to FL 310 and establishes R-2202D in the former restricted airspace of R-2202C above FL 310. The internal stratification of R-2202C and subsequent establishment of R-2202D will enable the military to activate only that portion of the airspace that is actually needed to contain hazardous operations. There are no changes to the external boundaries, altitudes, and times of designation or activities conducted within the restricted area.

Section 73.22 of part 73 was published in FAA Order 7400.8L, Special Use Airspace, dated October 7, 2003.

The FAA has determined that this regulation only involves an established body of technical regulations for which frequent and routine amendments are necessary to keep them operationally current. Therefore, this regulation: (1) Is not “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106 (g), 40103, 40113, 40120; E.O. 10854, 24 FR 9565, 3 CFR, 1959-1963 Comp., p. 389.

§ 73.22 [Amended]

2. § 73.22 is amended as follows:

* * * * *

R-2202C Big Delta, AK (Revised)

By removing the existing altitudes and substituting the following:

Designated altitudes. 10,000 feet MSL to and including FL310.

R-2202D Big Delta, AK (New)

Boundaries. Beginning at lat. 64°14′44″ N., long. 146°43′23″ W.; to lat. 64°03′34″ N., long. 146°10′58″ W.; to lat. 63°56′16″ N., long. 145°49′38″ W.; to lat. 63°54′19″ N., long. 145°50′28″ W.; to lat. 63°50′29″ N., long. 145°50′08″ W.; to lat. 63°42′59″ N., long. 145°54′09″ W.; to lat. 63°42′14″ N., long. 146°13′34″ W.; to lat. 63°43′59″ N., long. 146°30′08″ W.; to lat. 63°50′49″ N., long. 146°47′38″ W.; thence along the east bank of the East Fork and Little Delta Rivers to the point of beginning.

Designated altitudes. Above FL 310 to unlimited.

Time of designation. Intermittent by NOTAM.

Controlling agency. FAA, Anchorage ARTCC.

Using agency. U.S. Army, Commander, Cold Regions Test Activity, Fort Greely, AK.

* * * * *

Issued in Washington, DC on January 9, 2004.
Reginald C. Mathews,
Manager, Airspace and Rules Division.

[FR Doc. 04-1268 Filed 1-21-04; 8:45 am]

BILLING CODE 4910-13-P